DEPARTMENT OF COMMERCE

National Oceanic and Atmospheric Administration

National Sea Grant Review Panel

AGENCY: National Oceanic and Atmospheric Administration, Department of Commerce.

ACTION: Notice of public meeting.

SUMMARY: This notice sets forth the schedule and proposed agenda of a forthcoming meeting of the Sea Grant Review Panel. The meeting will have two main purposes. Panel members will discuss and provide advice on the National Sea Grant College Program in the areas of program evaluation, strategic planning, education and extension, science and technology programs, and other matters as described below:

DATES: The announced meeting is scheduled for: Tuesday, June 26, 2007.

ADDRESSES: Conference Call. Public access is denied however the call will occur at SSMC Bldg 3, Room #11716, 1315 East-West Highway, Silver Spring, MD.

FOR FURTHER INFORMATION CONTACT: Mr. Joseph Brown, National Sea Grant College Program, National Oceanic and Atmospheric Administration, 1315 East-West Highway, Room 11717, Silver Spring, Maryland 20910, (301)734-1088.

SUPPLEMENTARY INFORMATION: The Panel, which consists of a balanced representation from academia, industry, state government and citizens groups, was established in 1976 by Section 209 of the Sea Grant Improvement Act (Pub. L. 94-461, 33 U.S.C. 1128). The Panel advises the Secretary of Commerce and the Director of the National Sea Grant College Program with respect to operations under the Act, and such other matters as the Secretary refers to them for review and advice. The agenda for the meeting is as follows:

Tuesday, June 26, 2007—2 to 3:30 p.m.

Agenda

I. New Jersey Sea Grant Special Review Team Update

II. Review Logistics for Annual Fall Meeting

This meeting is closed to the public based upon Sunshine Act, 5 U.S.C. 552b(c)(6).

Dated: June 13, 2007.
Terry Bevels,
Deputy Chief Financial Officer, Office of Oceanic and Atmospheric Research, National Oceanic and Atmospheric Administration.

[FR Doc. E7-11696 Filed 6-15-07; 8:45 am]

BILLING CODE 3510-KA-P